DEPARTMENT OF TRANSPORTATION

Federal Aviation Administration

14 CFR Part 39

[Docket No. FAA-2025-0747; Project Identifier MCAI-2024-00318-T]

RIN 2120-AA64

Airworthiness Directives; Bombardier, Inc., Airplanes

AGENCY: Federal Aviation Administration (FAA), DOT.

ACTION: Notice of proposed rulemaking (NPRM).

SUMMARY: The FAA proposes to adopt a new airworthiness directive (AD) for certain Bombardier, Inc., Model CL-600-1A11 (600), CL-600-2A12 (601), and CL-600-2B16 (601-3A, 601-3R, and 604 Variants) airplanes. This proposed AD was prompted by tail strikes that occurred during landing with partial flap configurations. This proposed AD would require revising the existing airplane flight manual (AFM) to provide the flightcrew with procedures to follow when landing under certain conditions. The FAA is proposing this AD to address the unsafe condition on these products.

DATES: The FAA must receive comments on this proposed AD by June 20, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0747; or in person at Docket Operations between 9 a.m. and 5 p.m., Monday through Friday, except Federal holidays. The AD docket contains this NPRM, the mandatory continuing airworthiness information (MCAI), any comments received, and other information. The street address for Docket Operations is listed above.

Material Incorporated by Reference:

• For Bombardier and Canadair material identified in this proposed AD, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195.

FOR FURTHER INFORMATION CONTACT: Fatin Saumik, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under the ADDRESSES section. Include “Docket No. FAA-2025-0747; Project Identifier MCAI-2024-00318-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Fatin Saumik, Aviation Safety Engineer, FAA, 1600 Stewart Avenue, Suite 410, Westbury, NY 11590; telephone 516-228-7300; email 9-avs-nyaco-cos@faa.gov. Any commentary that the FAA receives which is not specifically designated as CBI will be placed in the public docket for this rulemaking.

Background

Transport Canada, which is the aviation authority for Canada, has issued Transport Canada AD CF-2024-19, dated May 30, 2024 (Transport Canada AD CF-2024-19) (also referred to after this as the MCAI), to correct an unsafe condition on certain Bombardier, Inc., Model CL-600-1A11 (600), CL-600-2A12 (601), and CL-600-2B16 (601-3A, 601-3R, and 604 Variants) airplanes. The MCAI states two tail strikes occurred during landing with partial flap configurations. Ensuing investigations concluded the amount of nose-down elevator input applied following touchdown was not enough to maintain the nose landing gear on the ground when thrust reversers were deployed. This tendency for nose-up pitching at high power settings is controllable with elevator and may be minimized by ensuring several actions like nose-down elevator and brake application before deploying thrust reversers.

The FAA is proposing this AD to address, through improved AFM procedures, an inadequate amount of nose-down elevator input applied following touchdown, which could cause the inability to maintain the nose landing gear on the ground when thrust reversers are deployed. The unsafe condition, if not addressed, could result in tail strikes.

You may examine the MCAI in the AD docket at regulations.gov under Docket No. FAA-2025-0747.

Material Incorporated by Reference Under 1 CFR Part 51

The FAA reviewed the following revisions of the AFM that provide procedures that improve the existing guidance to further reduce the risk of a tail strike on landing. The procedures include steps to set flight spoilers to max, apply moderate or greater breaking, and perform other actions to help keep the nose down and reduce the risk of tail strikes by increasing drag and reducing lift. These documents are distinct since they apply to different airplane models and configurations.

• Abnormal Procedures section, Canadair Challenger AFM, Product Support Publication No. 601-1A-1 (U.S.), Revision 85, dated January 25, 2024. (Including procedures for: Failure of System No. 1, Failure of System No. 2, Failure of Systems No. 1 and No. 2, Failure of Systems No 1. and No. 3, Failure of Systems No. 2 and No. 3, Engine Failure During Approach, Single Engine Approach and Landing, Ice Dispersal Procedure, Wing Flap System Malfunction, Ground Spoiler System Malfunction, Pitch Trim Channel 1 and Channel 2 Failure, Excessive Pitch Trim Rate, Pitch Trim Runaway, Fuel Leak, Yaw Damper Failure, and Thrust Reverser Unlocked.)

• Abnormal Procedures section, Canadair Challenger AFM, Product Support Publication No. 601-1B-1 (U.S.), Revision 87, dated January 25, 2024. (Including procedures for: Engine Failure During Approach, Single Engine Approach and Landing, Ice Dispersal Procedure, Wing Flap System Malfunction, Ground Spoiler System Malfunction, Pitch Trim Single Channel Failure, Excessive Pitch Trim Rate, Pitch Trim Runaway, Fuel Leak, Failure of System No. 1, Failure of System No. 2, Failure of Systems No 1. and No. 2, Failure of Systems No. 1 and No. 3, Failure of Systems No. 2 and No. 3, Yaw Damper Failure, and Thrust Reverser Unlocked.)

• Abnormal Procedures section, Canadair Challenger AFM, Product Support Publication No. 601A-1-1, Revision 98, dated January 25, 2024. (Including procedures for: Engine Failure During Approach, Single Engine Approach and Landing, Ice Dispersal Procedure, Wing Flap System Malfunction, Ground Spoiler System Malfunction, Pitch Trim Channel 1 and Channel 2 Failure, Excessive Pitch Trim Rate, Pitch Trim Runaway, Fuel Leak, Failure of System No. 1, Failure of System No. 2, Failure of Systems No 1. and No. 2, Failure of Systems No. 1 and No. 3, Failure of Systems No. 2 and No. 3, Yaw Damper Failure, and Thrust Reverser Unlocked.)

• Chapter 5—Abnormal Procedures, Bombardier Challenger 604 AFM, Publication No. PSP 604-1, Revision 131, dated September 5, 2023. (Including procedures for: Thrust Lever Inoperative, Engine Failure During Approach, Single Engine Approach and Landing, Double Yaw Damper Failure, Flaps Failure, Ground Spoilers Failure, Ground Spoilers Unsafe, Ground Spoilers Deployed During Flight, Stabilizer Trim Failure, Aileron PCU Malfunction, Elevator System Malfunction, Excessive Fuel Load-Aux Tank, Fuel Leak Procedure, System No. 1 Failure, System No. 1 and No. 2 Failure, System No. 2 and No. 3 Failure, System No. 1 and No. 3 Failure, Ice Dispersal Procedure, Nose Wheel Steering System Failure, Weight-on-Wheels Output Fault, and Proximity Sensing System Failure (Total System Shutdown).) (For obtaining the procedures for Bombardier Challenger 604 AFM, Publication No. No. PSP 604-1, use Document Identification No. CH 604 AFM.)

• Supplement 4 Category II Operations, Bombardier Challenger 604 AFM, Publication No. PSP 604-1, Revision 131, dated September 5, 2023. (Including the Engine Failure During Final Approach procedure.) (For obtaining the procedures for Bombardier Challenger 604 AFM, Publication No. No. PSP 604-1, use Document Identification No. CH 604 AFM.)

• Chapter 5—Abnormal Procedures, Bombardier Challenger 605 AFM, Publication No. PSP 605-1, Revision 69, dated September 5, 2023. (Including procedures for: Thrust Lever Inoperative, Engine Failure During Approach, Single Engine Approach and Landing, Double Yaw Damper Failure, Flaps Failure, Ground Spoilers Unsafe, Ground Spoilers Deployed During Flight, Stabilizer Trim Failure, Aileron PCU Malfunction, Elevator System Malfunction, Excessive Fuel Load—Aux Tank, Fuel Leak Procedure, System No 1. Failure, System No. 1 and No. 2 Failure, System No. 2 and No. 3 Failure, System No. 1 and No. 3. Failure, Ice Dispersal Procedure, and Proximity Sensing System Failure (Total System Shutdown).) (For obtaining the procedures for Bombardier Challenger 605 AFM, Publication No. No. PSP 605-1, use Document Identification No. CH 605 AFM.)

• Abnormal Procedures section, Canadair Challenger AFM, Product Support Publication No. 600-1 (US), Revision 109, dated January 25, 2024. (Including procedures for: Engine Failure During Approach, Single Engine Approach and Landing, Ice Dispersal, Wing Flap System Malfunction, Ground Spoiler System Malfunction, Pitch Trim Channel 1 and Channel 2 Failure, Excessive Pitch Trim Rate, Pitch Trim Runaway, Fuel Leak, Failure of System No. 1, Failure of System No. 2, Failure of Systems No. 1 and No. 2, Failure of Systems No. 1 and No. 3, Failure of Systems No. 2 and No. 3, Yaw Damper Failure; and Thrust Reverser Unlocked.)

• Abnormal Procedures section, Canadair Challenger AFM, Product Support Publication No. 601-1A (U.S.), Revision 126, dated January 25, 2024. (Including procedures for: Failure of System No. 1, Failure of System No. 2, Failure of Systems No. 1 and No. 2, Failure of Systems No. 1 and No. 3, Failure of Systems No. 2 and No. 3, Engine Failure During Approach, Single Engine Approach and Landing, Ice Dispersal, Wing Flap System Malfunction, Ground Spoiler System Malfunction, Pitch Trim Channel 1 and Channel 2 Failure, Excessive Pitch Trim Rate, Pitch Trim Runaway, Fuel Leak, Yaw Damper Failure, Thrust Reverser Unlocked.)

• Abnormal Procedures section, Canadair Challenger AFM, Product Support Publication No. 601-1B (U.S.), Revision 89, dated January 25, 2024. (Including procedures for: Engine Failure During Approach, Single Engine Approach and Landing, Ice Dispersal Procedure, Wing Flap System Malfunction, Ground Spoiler System Malfunction, Pitch Trim Channel 1 and Channel 2 Failure, Excessive Pitch Trim Rate, Pitch Trim Runaway, Fuel Leak, Failure of System No. 1, Failure of System No. 2, Failure of Systems No 1. and No. 2, Failure of Systems No. 1 and No. 3, Failure of Systems No. 2 and No. 3, Yaw Damper Failure, and Thrust Reverser Unlocked.)

• Abnormal Procedures section, Canadair Challenger AFM, Product Support Publication No. 601A-1, Revision 109, dated January 25, 2024. (Including procedures for: Engine Failure During Approach, Single Engine Approach and Landing, Ice Dispersal Procedure, Wing Flap System Malfunction, Ground Spoiler System Malfunction, Pitch Trim Channel 1 and Channel 2 Failure, Excessive Pitch Trim Rate, Pitch Trim Runaway, Fuel Leak, Failure of System No. 1, Failure of System No. 2, Failure of Systems No 1. and No. 2, Failure of Systems No. 1 and No. 3, Failure of Systems No. 2 and No. 3, Yaw Damper Failure, and Thrust Reverser Unlocked.)

• Chapter 5—Abnormal Procedures, Challenger 650 AFM, Publication PSP No. 650-1, Revision 34, dated September 5, 2023. (Including procedures for: Thrust Reverser Inoperative, Engine Failure During Approach, Single Engine Approach and Landing, Double Yaw Damper Failure, Flaps Failure, Ground Spoilers Unsafe, Ground Spoilers Deployed During Flight, Stabilizer Trim Failure, Aileron PCU Malfunction, Elevator System Malfunction, Excessive Fuel Load—Aux Tank, Fuel Leak Procedure, System No. 1 Failure, System No. 1 and No. 2 Failure, System No 2. and No. 3 Failure, System No. 1 and No. 3 Failure, Ice Dispersal Procedure, and Proximity Sensing System Failure (Total System Shutdown).) (For obtaining the procedures for Bombardier Challenger 650 AFM, Publication No. No. PSP 650-1, use Document Identification No. CH 650 AFM.)

• Emergency Procedures section, Canadair Challenger AFM, Product Support Publication No. 601-1A-1 (U.S.), Revision 85, dated January 25, 2024. (Including procedures for: Inadvertent Thrust Reverser Deployment in Flight, Smoke/Fire/Fumes Procedure, Smoke or Fumes Removal Procedure, Loss of All Normal Generated Electrical Power, Pitch Control System Jammed, Roll Control System Jammed, Rudder Control System Jammed, Yaw Damper Failure, and Anti-Ice, Wing Duct Failure.)

• Emergency Procedures section, Canadair Challenger AFM, Product Support Publication No. 601-1B-1 (U.S.), Revision 87, dated January 25, 2024. (Including procedures for: Inadvertent Thrust Reverser Deployment in Flight, Smoke/Fire/Fumes Procedure, Smoke or Fumes Removal Procedure, Loss of All Normal Generated Electrical Power, Pitch Control System Jammed, Roll Control System Jammed, Rudder Control System Jammed, Yaw Damper Failure, and Anti-Ice, Wing Duct Failure.)

• Emergency Procedures section, Canadair Challenger AFM, Product Support Publication No. 601A-1-1, Revision 98, dated January 25, 2024. (Including procedures for: Inadvertent Thrust Reverser Deployment in Flight, Smoke/Fire/Fumes Procedure, Smoke or Fumes Removal Procedure, Loss of All Normal Generated Electrical Power, Pitch Control System Jammed, Roll Control System Jammed, Rudder Control System Jammed, and Anti-Ice, Wing Duct Failure.)

• Chapter 3—Emergency Procedures, Bombardier Challenger 604 AFM, Publication No. PSP 604-1, Revision 131, dated September 5, 2023. (Including procedures for: Double Engine Failure, Uncommanded Thrust Reverser Deployment, Smoke/Fire/Fumes Procedure, Smoke or Fumes Removal Procedure, Uncommanded Yaw Motion, Loss of All Normal Electrical Power, Aileron System Jammed, Elevator System Jammed, Rudder System Jammed, Stabilizer Trim Runaway, and Fuselage/Wing Anti-Ice Duct Failure.) (For obtaining the procedures for Bombardier Challenger 604 AFM, Publication No. No. PSP 604-1, use Document Identification No. CH 604 AFM.)

• Chapter 3—Emergency Procedures, Bombardier Challenger 605 AFM, Publication No. PSP 605-1, Revision 69, dated September 5, 2023. (Including procedures for: Double Engine Failure, Uncommanded Thrust Reverser Deployment, Smoke/Fire/Fumes Procedure, Smoke or Fumes Removal Procedure, Uncommanded Yaw Motion, Loss of All Normal Electrical Power, Aileron System Jammed, Elevator System Jammed, Rudder System Jammed, Stabilizer Trim Runaway, and Fuselage/Wing Anti-Ice Duct Failure.) (For obtaining the procedures for Bombardier Challenger 605 AFM, Publication No. No. PSP 605-1, use Document Identification No. CH 605 AFM.)

• Emergency Procedures section, Canadair Challenger AFM, Product Publication No. 600 (U.S.), Revision A117, dated January 25, 2024. (Including procedures for: Inadvertent Thrust Reverser Deployment in Flight, Smoke/Fire/Fumes Procedure, Smoke or Fumes Removal Procedure, Loss of All Normal Generated Electrical Power, Pitch Control System Jammed, Roll Control System Jammed, Rudder Control System Jammed, Yaw Damper Failure, and Wing Anti-Ice Duct Failure.)

• Emergency Procedures section, Canadair Challenger AFM, Product Support Publication No. 600-1 (US), Revision 109, dated January 25, 2024. (Including procedures for: Inadvertent Thrust Reverser Deployment in Flight, Smoke/Fire/Fumes Procedure, Smoke or Fumes Removal Procedure, Loss of All Normal Generated Electrical Power, Pitch Control System Jammed, Roll Control System Jammed, Rudder Control System Jammed, Yaw Damper Failure, and Wing Anti-Ice Duct Failure.)

• Emergency Procedures section, Canadair Challenger AFM, Product Support Publication No. 601-1A (U.S.), Revision 126, dated January 25, 2024. (Including procedures for: Inadvertent Thrust Reverser Deployment in Flight, Smoke/Fire/Fumes Procedure, Smoke or Fumes Removal Procedure, Loss of All Normal Generated Electrical Power, Pitch Control System Jammed, Roll Control System Jammed, Rudder Control System Jammed, Yaw Damper Failure, and Anti-Ice, Wing Duct Failure.)

• Emergency Procedures section, Canadair Challenger AFM, Product Support Publication No. 601-1B (U.S.), Revision 89, dated January 25, 2024. (Including procedures for: Inadvertent Thrust Reverser Deployment in Flight, Smoke/Fire/Fumes Procedure, Smoke or Fumes Removal Procedure, Loss of All Normal Generated Electrical Power, Pitch Control System Jammed, Roll Control System Jammed, Rudder Control System Jammed, Yaw Damper Failure, and Anti-Ice, Wing Duct Failure.)

• Emergency Procedures section, Canadair Challenger AFM, Product Support Publication No. 601A-1, Revision 109, dated January 25, 2024. (Including procedures for: Inadvertent Thrust Reverser Deployment in Flight, Smoke/Fire/Fumes Procedure, Smoke or Fumes Removal Procedure, Loss of All Normal Generated Electrical Power, Pitch Control System Jammed, Roll Control System Jammed, Rudder Control System Jammed, Yaw Damper Failure, and Anti-Ice, Wing Duct Failure.)

• Chapter 3—Emergency Procedures, Challenger 650 AFM, Publication No. PSP 650-1, Revision 34, dated September 5, 2023. (Including procedures for: Double Engine Failure, Uncommanded Thrust Reverser Deployment, Smoke/Fire/Fumes Procedure, Smoke or Fumes Removal Procedure, Uncommanded Yaw Motion, Loss of All Normal Electrical Power, Aileron System Jammed, Elevator System Jammed, Rudder System Jammed, Stabilizer Trim Runaway, and Fuselage/Wing Anti-Ice Duct Failure.) (For obtaining the procedures for Bombardier Challenger 650 AFM, Publication No. No. PSP 650-1, use Document Identification No. CH 650 AFM.)

• Normal Procedures section, Canadair Challenger AFM, Product Support Publication No. 601-1A-1 (U.S.), Revision 85, dated January 25, 2024. (Including the Landing Procedure.)

• Normal Procedures section, Canadair Challenger AFM, Product Support Publication No. 601-1B-1 (U.S.), Revision 87, dated January 25, 2024. (Including the Landing Procedure.)

• Normal Procedures section, Canadair Challenger AFM, Product Support Publication No. 601A-1-1, Revision 98, dated January 25, 2024. (Including the Landing Procedure.)

• Supplement 4, Category II Operations, Bombardier Challenger 605 AFM, Publication No. PSP 605-1, Revision 69, dated September 5, 2023. (Including the Engine Failure During Final Approach procedure.) (For obtaining the procedures for Bombardier Challenger 605 AFM, Publication No. No. PSP 605-1, use Document Identification No. CH 605 AFM.)

• Normal Procedures section, Canadair Challenger AFM, Product Publication No. 600 (U.S.), Revision A117, dated January 25, 2024. (Including the Landing Procedure.)

• Normal Procedures section, Canadair Challenger AFM, Product Support Publication No. 600-1 (US), Revision 109, dated January 25, 2024. (Including the Landing Procedure.)

• Normal Procedures section, Canadair Challenger AFM, Product Support Publication No. 601-1A (U.S.), Revision 126, dated January 25, 2024. (Including the Landing Procedure.)

• Normal Procedures section, Canadair Challenger AFM, Product Support Publication No. 601-1B (U.S.), Revision 89, dated January 25, 2024. (Including the Landing Procedure.)

• Normal Procedures section, Canadair Challenger AFM, Product Support Publication No. 601A-1, Revision 109, dated January 25, 2024. (Including the Landing Procedure.)

• Supplement 4 Category II Operations, Challenger 650 AFM, Publication No. PSP 650-1, Revision 34, dated September 5, 2023. (Including the Engine Failure During Final Approach procedure.) (For obtaining the procedures for Bombardier Challenger 650 AFM, Publication No. No. PSP 650-1, use Document Identification No. CH 650 AFM.)

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would require revising the existing AFM to provide strengthened procedures to further reduce the risk of a tail strike on landing.

Compliance With AFM Revisions

Transport Canada AD CF-2024-19 requires operators to “advise all flight crews of the changes introduced by the AFM revisions to the AFM and thereafter operate the airplane accordingly.” However, this proposed AD would not specifically require those actions as those actions are already required by FAA regulations. FAA regulations require that operators furnish to pilots any changes to the AFM (for example, 14 CFR 121.137), and to ensure the pilots are familiar with the AFM (for example, 14 CFR 91.505). As with any other flightcrew training requirement, training on the updated AFM content is tracked by the operators and recorded in each pilot's training record, which is available for the FAA to review. FAA regulations also require pilots to follow the procedures in the existing AFM including all updates.

Costs of Compliance

The FAA estimates that this AD, if adopted as proposed, would affect 420 airplanes of U.S. registry. The FAA estimates the following costs to comply with this proposed AD:

Estimated Costs for Required Actions
Labor cost | Parts cost | Cost per product | Cost on U.S. operators
1 work-hour × $85 per hour = $85 | $0 | $85 | $35,700

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bombardier, Inc.: FAA-2025-0747; Project Identifier MCAI-2024-00318-T.

(a) Comments Due Date

The FAA must receive comments on this airworthiness directive (AD) by June 20, 2025.

(b) Affected ADs

None.

(c) Applicability

This AD applies to Bombardier, Inc., airplanes, certificated in any category, identified in paragraphs (c)(1) through (3) of this AD.

(1) Model CL-600-1A11 (600) airplanes, serial numbers 1001 through 1085 inclusive.

(2) Model CL-600-2A12 (601) airplanes, serial numbers 3001 through 3066 inclusive.

(3) Model CL-600-2B16 (601-3A, 601-3R, and 604 Variants) airplanes, serial numbers 5001 through 5194 inclusive, 5301 through 5665 inclusive, 5701 through 5988 inclusive, and 6050 through 6190 inclusive.

(d) Subject

Air Transport Association (ATA) of America Code 27, Flight Controls.

(e) Unsafe Condition

This AD was prompted by tail strikes that occurred during landing with partial flap configurations. The FAA is issuing this AD to address an inadequate amount of nose-down elevator input applied following touchdown, which could cause the inability to maintain the nose landing gear on the ground when thrust reversers are deployed. The unsafe condition, if not addressed, could result in tail strikes.

(f) Compliance

Comply with this AD within the compliance times specified, unless already done.

(g) Revision of Existing Airplane Flight Manual (AFM)

Within 60 days after the effective date of this AD, revise the Normal, Emergency, and Abnormal Procedures sections; and Supplement 4; as applicable, of the applicable existing AFM to include the information specified in table 1 to paragraph (g) of this AD.

BILLING CODE 4910-13-P

Table 1 to Paragraph (g): AFM Revisions

BILLING CODE 4910-13-C

(h) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (i) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(i) Additional Information

For more information about this AD, contact Fatin Saumik, Aviation Safety Engineer, FAA, 1600 Stewart Avenue, Suite 410, Westbury, NY 11590; telephone 516-228-7300; email 9-avs-nyaco-cos@faa.gov.

(j) Material Incorporated by Reference

(1) The Director of the Federal Register approved the incorporation by reference of the material listed in this paragraph under 5 U.S.C. 552(a) and 1 CFR part 51.

(2) You must use this material as applicable to do the actions required by this AD, unless this AD specifies otherwise.

(i) Abnormal Procedures section, Canadair Challenger AFM, Product Support Publication No. 600-1 (US), Revision 109, dated January 25, 2024.

(ii) Abnormal Procedures section, Canadair Challenger AFM, Product Support Publication No. 601-1A (U.S.), Revision 126, dated January 25, 2024.

(iii) Abnormal Procedures section, Canadair Challenger AFM, Product Support Publication No. 601-1A-1 (U.S.), Revision 85, dated January 25, 2024.

(iv) Abnormal Procedures section, Canadair Challenger AFM, Product Support Publication No. 601A-1-1, Revision 98, dated January 25, 2024.

(v) Abnormal Procedures section, Canadair Challenger AFM, Product Support Publication No. 601-1B (U.S.), Revision 89, dated January 25, 2024.

(vi) Abnormal Procedures section, Canadair Challenger AFM, Product Support Publication No. 601-1B-1 (U.S.), Revision 87, dated January 25, 2024.

(vii) Abnormal Procedures section, Canadair Challenger AFM, Product Support Publication No. 601A-1, Revision 109, dated January 25, 2024.

(viii) Chapter 3—Emergency Procedures, Bombardier Challenger 604 AFM, Publication No. PSP 604-1, Revision 131, dated September 5, 2023.

Note 1 to paragraph (j)(2)(viii): For obtaining the procedures specified in paragraphs (j)(2)(viii), (xi), and (xxxi) of this AD for Bombardier Challenger 604 AFM, Publication No. No. PSP 604-1, use Document Identification No. CH 604 AFM.

(ix) Chapter 3—Emergency Procedures, Bombardier Challenger 605 AFM, Publication No. PSP 605-1, Revision 69, dated September 5, 2023.

Note 2 to paragraph (j)(2)(ix): For obtaining the procedures specified in paragraphs (j)(2)(ix), (xii), and (xxxii) of this AD for Bombardier Challenger 605 AFM, Publication No. No. PSP 605-1, use Document Identification No. CH 605 AFM.

(x) Chapter 3—Emergency Procedures, Challenger 650 AFM, Publication No. PSP 650-1, Revision 34, dated September 5, 2023.

Note 3 to paragraph (j)(2)(x): For obtaining the procedures specified in paragraphs (j)(2)(x), (xiii), and (xxxiii) of this AD for Bombardier Challenger 650 AFM, Publication No. No. PSP 650-1, use Document Identification No. CH 650 AFM.

(xi) Chapter 5—Abnormal Procedures, Bombardier Challenger 604 AFM, Publication No. PSP 604-1, Revision 131, dated September 5, 2023.

(xii) Chapter 5—Abnormal Procedures, Bombardier Challenger 605 AFM, Publication No. PSP 605-1, Revision 69, dated September 5, 2023.

(xiii) Chapter 5—Abnormal Procedures, Challenger 650 AFM, Publication PSP No. 650-1, Revision 34, dated September 5, 2023.

(xiv) Emergency Procedures section, Canadair Challenger Airplane Flight Manual (AFM), Product Publication No. 600 (U.S.), Revision A117, dated January 25, 2024.

(xv) Emergency Procedures section, Canadair Challenger AFM, Product Support Publication No. 600-1 (US), Revision 109, dated January 25, 2024.

(xvi) Emergency Procedures section, Canadair Challenger AFM, Product Support Publication No. 601-1A (U.S.), Revision 126, dated January 25, 2024.

(xvii) Emergency Procedures section, Canadair Challenger AFM, Product Support Publication No. 601-1A-1 (U.S.), Revision 85, dated January 25, 2024.

(xviii) Emergency Procedures section, Canadair Challenger AFM, Product Support Publication No. 601A-1-1, Revision 98, dated January 25, 2024.

(xix) Emergency Procedures section, Canadair Challenger AFM, Product Support Publication No. 601A-1, Revision 109, dated January 25, 2024.

(xx) Emergency Procedures section, Canadair Challenger AFM, Product Support Publication No. 601-1B (U.S.), Revision 89, dated January 25, 2024.

(xxi) Emergency Procedures section, Canadair Challenger AFM, Product Support Publication No. 601-1B-1 (U.S.), Revision 87, dated January 25, 2024.

(xxii) Normal Procedures section, Canadair Challenger AFM, Product Publication No. 600 (U.S.), Revision A117, dated January 25, 2024.

(xxiii) Normal Procedures section, Canadair Challenger AFM, Product Support Publication No. 600-1 (US), Revision 109, dated January 25, 2024.

(xxiv) Normal Procedures section, Canadair Challenger AFM, Product Support Publication No. 601-1A (U.S.), Revision 126, dated January 25, 2024.

(xxv) Normal Procedures section, Bombardier Challenger AFM, Product Support Publication No. 601-1A-1 (U.S.), Revision 85, dated January 25, 2024.

(xxvi) Normal Procedures section, Canadair Challenger AFM, Product Support Publication No. 601A-1, Revision 109, dated January 25, 2024.

(xxvii) Normal Procedures section, Canadair Challenger AFM, Product Support Publication No. 601A-1-1, Revision 98, dated January 25, 2024.

(xxviii) Normal Procedures section, Canadair Challenger AFM, Product Support Publication No. 601-1B (U.S.), Revision 89, dated January 25, 2024.

(xxx) Normal Procedures section, Canadair Challenger AFM, Product Support Publication No. 601-1B-1 (U.S.), Revision 87, dated January 25, 2024.

(xxxi) Supplement 4 Category II Operations, Bombardier Challenger 604 AFM, Publication No. PSP 604-1, Revision 131, dated September 5, 2023.

(xxxii) Supplement 4, Category II Operations, Bombardier Challenger 605 AFM, Publication No. PSP 605-1, Revision 69, dated September 5, 2023,

(xxxiii) Supplement 4 Category II Operations, Bombardier Challenger 650 AFM, Publication No. PSP 650-1, Revision 34, dated September 5, 2023.

(3) For Bombardier and Canadair material identified in this AD, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on April 29, 2025.
Steven W. Thompson,
Acting Deputy Director, Compliance & Airworthiness Division, Aircraft Certification Service.

[FR Doc. 2025-07753 Filed 5-5-25; 8:45 am]

BILLING CODE 4910-13-P